DEPARTMENT OF THE INTERIOR

National Park Service

[NPS-WASO-NAGPRA-NPS0040145; PPWOCRADN0-PCU00RP14.R50000]

Notice of Inventory Completion: U.S. Department of Energy, Idaho Operations Office, Idaho Falls, ID

AGENCY: National Park Service, Interior.

ACTION: Notice.

SUMMARY: In accordance with the Native American Graves Protection and Repatriation Act (NAGPRA), the U.S. Department of Energy, Idaho Operations Office has completed an inventory of human remains and has determined that there is a cultural affiliation between the human remains and Indian Tribes or Native Hawaiian organizations in this notice.

DATES: Repatriation of the human remains in this notice may occur on or after June 16, 2025.

FOR FURTHER INFORMATION CONTACT: Mr. Michael McAnulty, Deputy Manager, Department of Energy, Idaho Operations Office, 1955 Fremont Avenue, MS-1203, Idaho Falls, ID 83415, telephone (208) 526-5859, email mcanulmj@id.doe.gov and Mr. R. Douglas Herzog, National Environmental Policy Act Compliance Officer, Department of Energy, Idaho Operations Office, 1955 Fremont Avenue, MS-1216, Idaho Falls, ID 83415, telephone (208) 244-9465, email herzogrd@id.doe.gov.

SUPPLEMENTARY INFORMATION: This notice is published as part of the National Park Service's administrative responsibilities under NAGPRA. The determinations in this notice are the sole responsibility of the Department of Energy, Idaho Operations Office and additional information on the determinations in this notice, including the results of consultation, can be found in its inventory or related records. The National Park Service is not responsible for the determinations in this notice.

Abstract of Information Available

Human remains representing, at least, one individual have been identified. No associated funerary objects are present. The remains are curated in the Idaho Museum of Natural History's Earl H. Swanson Archaeological Repository located at Idaho State University in Pocatello, Idaho. Accession records from the Museum indicate the human remains consist of two cranial fragments described as two halves of the parietal fragment glued together and exhibiting blackened or burned surfaces. A forensic exam performed by the Museum noted the bones exhibit a high sheen which may indicate the presence of a preservative, although the preservative is not further described. The remains were removed in 1961 from the Department of Energy's National Reactor Testing Station, now Idaho National Laboratory Site, in Butte County, Idaho. An engineer employed by the F. C. Torkelson Company, which was performing engineering and construction work at the Site, gave the fragments to an anthropologist with the Idaho State University Museum, now Idaho Museum of Natural History, who was recording archaeological sites southeast of Cinder Butte on Department of Energy lands as part of the Birch Creek Project. The engineer donated the fragments to the Museum and indicated they were from a lava tube 4-5 miles northeast of the Central Facilities Area on the Site. Examination by an Idaho State University forensic anthropologist confirmed the fragments are human. The Museum's documentation suggests a Native American biological affinity with Shoshone-Bannock cultural affiliation based on the geographic location.

Cultural Affiliation

Based on the information available and the results of consultation, cultural affiliation is reasonably identified by the geographical location or acquisition history of the human remains described in this notice.

Determinations

The Department of Energy has determined that:

• The human remains described in this notice represent the physical remains of one individual of Native American ancestry.

• There is a connection between the human remains described in this notice and the Shoshone-Bannock Tribes of the Fort Hall Reservation.

Requests for Repatriation

Written requests for repatriation of the human remains in this notice must be sent to the authorized representative identified in this notice under FOR FURTHER INFORMATION CONTACT. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after June 16, 2025. If competing requests for repatriation are received, the Department of Energy, Idaho Operations Office must determine the most appropriate requestor prior to repatriation. Requests for joint repatriation of the human remains are considered a single request and not competing requests. The Department of Energy, Idaho Operations Office is responsible for sending a copy of this notice to the Indian Tribes and Native Hawaiian organizations identified in this notice.

Authority: Native American Graves Protection and Repatriation Act, 25 U.S.C. 3003, and the implementing regulations, 43 CFR 10.10.

Dated: May 6, 2025.
Melanie O'Brien,
Manager, National NAGPRA Program.

[FR Doc. 2025-08771 Filed 5-15-25; 8:45 am]

BILLING CODE 4312-52-P